DEPARTMENT OF ENERGY

Federal Energy Regulatory Commission

Combined Notice of Filings #1

Take notice that the Commission received the following electric corporate filings:

Docket Numbers: EC16-160-000.

Applicants: Virginia Electric and Power Company.

Description: Application for Authorization under Section 203 of the Federal Power Act and Requests for Waivers, Shortened Comment Period and Expedited Consideration of Virginia Electric and Power Company.

Filed Date: 8/1/16.

Accession Number: 20160801-5227.

Comments Due: 5 p.m. ET 8/22/16.

Docket Numbers: EC16-161-000.

Applicants: R. R. Donnelley & Sons Company, LSC Communications US, LLC.

Description: Application for authorization under Section 203 of the Federal Power Act and request for waivers and expedited action of R.R. Donnelley & Sons Company.

Filed Date: 8/1/16.

Accession Number: 20160801-5239.

Comments Due: 5 p.m. ET 8/22/16.

Take notice that the Commission received the following electric rate filings:

Docket Numbers: ER16-2306-001.

Applicants: Southern California Edison Company.

Description: Tariff Amendment: SCE Resubmits Revised Appendix 6.2 to WDAT GIP to be effective 7/29/2016.

Filed Date: 8/2/16.

Accession Number: 20160802-5000.

Comments Due: 5 p.m. ET 8/23/16.

Docket Numbers: ER16-2358-000.

Applicants: PJM Interconnection, L.L.C.

Description: Section 205(d) Rate Filing: Original WMPA SA No. 4505, Queue No. Z2-097 to be effective 7/13/2016.

Filed Date: 8/2/16.

Accession Number: 20160802-5046.

Comments Due: 5 p.m. ET 8/23/16.

Docket Numbers: ER16-2359-000.

Applicants: PJM Interconnection, L.L.C.

Description: Section 205(d) Rate Filing: Amendment to First Revised WMPA SA No. 4184, Queue No. Z2-106 to be effective 12/9/2015.

Filed Date: 8/2/16.

Accession Number: 20160802-5075.

Comments Due: 5 p.m. ET 8/23/16.

Docket Numbers: ER16-2360-000.

Applicants: Great Western Wind Energy, LLC.

Description: Baseline eTariff Filing: Great Western Wind Energy Initial MBR Application and Notice Waiver Request to be effective 10/1/2016.

Filed Date: 8/2/16.

Accession Number: 20160802-5080.

Comments Due: 5 p.m. ET 8/23/16.

Docket Numbers: ER16-2361-000.

Applicants: PJM Interconnection, L.L.C.

Description: Section 205(d) Rate Filing: Amendment to Original WMPA SA No. 4259, Queue No. Z1-110 to be effective 7/22/2015.

Filed Date: 8/2/16.

Accession Number: 20160802-5088.

Comments Due: 5 p.m. ET 8/23/16.

Docket Numbers: ER16-2362-000.

Applicants: Public Service Company of Colorado.

Description: Section 205(d) Rate Filing: PSCo-WAPA-Rosedale Const. Agrmt. NOC 378 0.1.0 to be effective 10/3/2016.

Filed Date: 8/2/16.

Accession Number: 20160802-5097.

Comments Due: 5 p.m. ET 8/23/16.

Docket Numbers: ER16-2363-000.

Applicants: Bluestem Wind Energy, LLC.

Description: Baseline eTariff Filing: Bluestem Wind Energy LLC MBR Application to be effective 10/3/2016.

Filed Date: 8/2/16.

Accession Number: 20160802-5100.

Comments Due: 5 p.m. ET 8/23/16.

Docket Numbers: ER16-2364-000.

Applicants: Algonquin SKIC 10 Solar, LLC.

Description: Baseline eTariff Filing: Application for Order Accepting Initial Tariff to be effective 8/15/2016.

Filed Date: 8/2/16.

Accession Number: 20160802-5102.

Comments Due: 5 p.m. ET 8/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2016.
Nathaniel J. Davis, Sr.,
Deputy Secretary.

[FR Doc. 2016-18880 Filed 8-9-16; 8:45 am]

BILLING CODE 6717-01-P